DEPARTMENT OF HOMELAND SECURITY

Coast Guard

[Docket No. USCG-2024-0190]

National Towing Safety Advisory Committee; April and May 2024 Meetings

AGENCY: U.S. Coast Guard, Department of Homeland Security.

ACTION: Notice of open Federal advisory committee meeting.

SUMMARY: The National Towing Safety Advisory Committee (Committee) and its subcommittees will conduct a series of meetings over 2 days in Annapolis, MD, to review and discuss matters relating to shallow-draft inland navigation, coastal waterway navigation, and towing safety. These meetings will be open to the public.

DATES:

Meetings: National Towing Safety Advisory Committee will be called to order and have subcommittee working sessions and a full committee working session on Tuesday, April 30, 2024, from 8 a.m. to 5 p.m. Eastern Daylight Time (EDT). The full committee will meet on Wednesday, May 1, 2024, from 8 a.m. until 5 p.m. EDT. Please note these meetings may close early if the Committee has completed its business.

Comments and supporting documentation: To ensure your comments are received by Committee members before the meetings, submit your written comments no later than April 17, 2024.

ADDRESSES: The meeting will be held at the Graduate Annapolis, 126 West St, Annapolis, MD 21401 Graduate Annapolis | Hotel Near Naval Academy (graduatehotels.com).

The National Towing Safety Advisory Committee is committed to ensuring all participants have equal access regardless of disability status. If you require reasonable accommodation due to a disability to fully participate, please email Mr. Matthew D. Layman at Matthew.D.Layman@uscg.mil or call at 202-372-1421 as soon as possible.

Instructions: You are free to submit comments at any time, including orally at the meetings as time permits, but if you want Committee members to review your comment before the meetings, please submit your comments no later than April 17, 2024. We are particularly interested in comments on the topics in the “Agenda” section below. We encourage you to submit comments through Federal Decision-Making Portal at https://www.regulations.gov. To do so, go to https://www.regulations.gov, type USCG-2024-0190 in the search box and click “Search”. Next, look for this document in the Search Results column, and click on it. Then click on the Comment option. If your material cannot be submitted using https://www.regulations.gov, call or email the individual in the FOR FURTHER INFORMATION CONTACT section of this document for alternate instructions. You must include the docket number USCG-2024-0190. Comments received will be posted without alteration at https://www.regulations.gov including any personal information provided. You may wish to review the Privacy and Security Notice, found via link on the homepage https://www.regulations.gov, and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts using the Subscribe option, you will be notified when comments are posted.

FOR FURTHER INFORMATION CONTACT: Mr. Matthew D. Layman, Designated Federal Officer of the National Towing Safety Advisory Committee, telephone 202-372-1421, or Matthew.D.Layman@uscg.mil.

SUPPLEMENTARY INFORMATION: Notice of this meeting is in compliance with the Federal Advisory Committee Act, (Pub. L. 117-286, 5, U.S.C. ch. 10). The National Towing Safety Advisory Committee was established by section 601 of the Frank LoBiondo Coast Guard Authorization Act of 2018, (Pub. L. 115-282, 132 Stat. 4190), and is codified in 46 U.S.C. 15108. The Committee operates under the provisions of the Federal Advisory Committee Act, and 46 U.S.C. 15109. The National Towing Safety Advisory Committee provides advice and recommendations to the Secretary of Homeland Security through the Commandant of the U. S. Coast Guard, on matters related to shallow-draft inland navigation, coastal waterway navigation, and towing safety.

Agenda

The agenda for the National Towing Safety Advisory Committee is as follows:

The Committee Meeting Agenda, April 30, 2024

I. Opening

a. Call to order and Designated Federal Officer (DFO) Remarks.

b. Committee Chairperson Remarks.

II. Subcommittee Breakout Working Session

a. Task #22-01, Recommendations to the Coast Guard for Rulemaking Improvements to Subchapter M;

b. Task #22-02, Recommendations for Training and Instruction for Crewmembers Working Aboard Subchapter M Inspected Towing Vessels.

III. Full Committee Working Session

a. U. S Coast Guard E-Gov Travel Service Briefing.

b. Review New Task Statements.

• Sexual Assault and Sexual Harassment Policy Review.

IV. Public Comment Period

V. Adjournment of Meeting

The Committee Meeting Agenda, May 1, 2024

I. Opening

a. Call to Order and DFO Remarks.

b. Committee Chairperson Remarks.

c. Roll Call and Determination of Quorum.

d. U.S. Coast Guard Leadership Remarks.

II. Administration

a. Adoption of Meeting Agenda.

b. Approval of Meeting Minutes for September 27, 2023 Committee Meeting.

III. Old Business

a. Update from Subcommittees:

○ Task #22-01, Recommendation to the Coast Guard for Rulemaking Improvements to Subchapter M;

○ Task #21-04, Report on the Challenges Faced by the Towing Vessel Industry as a Result of the Covid-19 Pandemic.

b. Vetting Subcommittee Update.

IV. New Business

a. Committee Planning.

V. Information Session

a. U.S. Coast Guard Sector Baltimore.

b. Tradepoint Atlantic, Inc.

c. ACOE, Marine Construction.

d. U. S. Coast Guard Engineering Alternative Fuels.

e. U.S. Coast Guard Commercial Vessel Compliance.

VI. Committee Discussion

VII. Public Comment Period

VIII. Closing Remarks and Plans for Next Meeting

IX. Adjournment of Meeting

A copy of all pre-meeting documentation will be available at https://www.dco.uscg.mil/Our-Organization/Assistant-Commandant-for-Prevention-Policy-CG-5P/Commercial-Regulations-standards-CG-5PS/Office-of-Operating-and-Environmental-Standards/vfos/TSAC/ no later than April 17, 2024.

Alternatively, you may contact Mr. Matthew Layman as noted above in the FOR FURTHER INFORMATION CONTACT section above.

There will be a public comment period at the end of the meeting. Speakers are requested to limit their comments to 3 minutes. Please note that the public comment period may end before the period allotted, following the last call for comments. Please contact the individual listed in the FOR FURTHER INFORMATION CONTACT section to register as a speaker.

Notice of Future 2024 Committee Meetings

To receive automatic email notices of future National Towing Safety Advisory Committee meetings in 2024, go to the online docket, USCG-2024-0190 (https://www.regulations.gov/docket/USCG-2024-0190). Next, click on the “Subscribe” email icon. We plan to use the same docket number for notices of all 2024 meetings of this Committee. When the next meeting notice is published and added to the docket, you will receive an email alert. In addition, you will receive notices of other items being added to the docket.

Dated: April 2, 2024.
Jeffrey G. Lantz,
Director of Commercial Regulations and Standards.

[FR Doc. 2024-07697 Filed 4-10-24; 8:45 am]

BILLING CODE 9110-04-P